DEPARMENT OF COMMERCE

Office of the Secretary

15 CFR Part 4

[Docket No. 150324296-5527-02]

RIN 0605-AA38

Public Information, Freedom of Information Act and Privacy Act Regulations

AGENCY: Office of the Secretary, U.S. Department of Commerce.

ACTION: Proposed rule; reopening of public comment period.

SUMMARY: On May 8, 2015, the Department of Commerce (Department) published in the Federal Register a proposed rule to revise the Department's regulations under the Privacy Act. In particular, the Department proposed to amend its regulations regarding applicable exemptions to the Privacy Act to reflect new Department wide systems of records notices published since the last time the regulations were updated. The Department opened a public comment period through June 8, 2015. The Department is reopening the original public comment period of 30 days for the proposed rulemaking for an additional 30 days from the date of publication of this notice. The reopening is necessary because not all interested parties may have been given appropriate notification about this proposed new system of records, as well as time to respond with comments prior to the closing date of the original public comment period of June 8, 2015.

DATES: The comment period for the proposed rule published May 8, 2015 (80 FR 26499), is reopened. To be considered, written comments must be submitted on or before July 29, 2015.

ADDRESSES: You may submit written comments, identified by Regulatory Identification Number (RIN) 0605-AA38, by any of the following methods:

• Federal eRulemaking Portal: http://www.regulations.gov. Follow the instructions for submitting comments.

• Fax: (202) 482-0827. Include RIN 0605-AA38 in the subject line.

• Mail: Dr. Michael Toland, Office of Privacy and Open Government, 1401 Constitution Ave. NW., Washington, DC 20230.

Instructions: All submissions received must include the agency name and docket number or RIN for this rulemaking. All comments received will be posted without change to regulations.gov, including any personal information received. For detailed instructions on submitting comments and additional information on the rulemaking process, see the “Public Participation” heading of the SUPPLEMENTARY INFORMATION section for the proposed rule published May 8, 2015 (80 FR 26499).

FOR FURTHER INFORMATION CONTACT: Dr. Michael Toland, Office of Privacy and Open Government, 1401 Constitution Ave. NW., Washington, DC 20230, (202) 482-3842.

SUPPLEMENTARY INFORMATION: On May 8, 2015, the Department of Commerce published in the Federal Register a rule proposing revisions to the Department's Privacy Act regulations under the Privacy Act. The revisions of the Privacy Act regulations in subpart B of part 4 incorporate changes to the language in the regulations in the following provisions: § 4.33 (General exemptions); and § 4.34 (Specific Exemptions). See 80 FR 26499, May 8, 2015. In the original proposal, the Department requested comment on or before June 8, 2015. The public comment period is being reopened because not all interested parties may have been given adequate notice, as well as time to respond with comments about the Department's proposal to revise its regulations under the Privacy Act of 1974. This reopening will provide an opportunity for appropriate review and comment of the proposed rulemaking now posted in regulations.gov, RIN 0605-AA38, or in the public docket, Docket ID No. 150324296-5265-01, for 30 days from the date of today's publication.

All previously submitted comments will be responded to as appropriate, and members of the public who have submitted comments during the prior comment period need not resubmit them at this time. Comments received after June 8, but before publication of this notice must be resubmitted in order to be considered.

If no comments are received, a rule will be published, effective as proposed in 80 FR 26499 (May 8, 2015) on the date of publication, in the Federal Register.

Dated: June 19, 2015.
Catrina D. Purvis,
Department of Commerce, Chief Privacy Officer and Director for Open Government.

[FR Doc. 2015-15865 Filed 6-26-15; 8:45 am]

BILLING CODE 3510-BX-P